DEPARTMENT OF COMMERCE

National Institute of Standards and Technology

Visiting Committee on Advanced Technology

AGENCY: National Institute of Standards and Technology, Department of Commerce.

ACTION: Notice of Open Meeting.

SUMMARY: National Institute of Standards and Technology (NIST)'s Visiting Committee on Advanced Technology (VCAT or Committee) will meet on Tuesday, October 29, 2019, from 8:30 a.m. to 5:00 p.m. Eastern Time, and Wednesday, October 30, 2019, from 8:30 a.m. to 12:00 p.m. Eastern Time.

DATES: The VCAT will meet on Tuesday, October 29, 2019, from 8:30 a.m. to 5:00 p.m. and Wednesday, October 30, 2019, from 8:30 a.m. to 12:00 p.m. Eastern Time.

ADDRESSES: The meeting will be held in the Portrait Room, Administration Building, at NIST, 100 Bureau Drive, Gaithersburg, Maryland, 20899 with an option to participate via webinar. Please note admittance instructions under the SUPPLEMENTARY INFORMATION section of this notice.

FOR FURTHER INFORMATION CONTACT: Stephanie Shaw, VCAT, NIST, 100 Bureau Drive, Mail Stop 1060, Gaithersburg, Maryland 20899-1060, telephone number 301-975-2667. Ms. Shaw's email address is stephanie.shaw@nist.gov.

SUPPLEMENTARY INFORMATION:

Authority: 15 U.S.C. 278, as amended, and the Federal Advisory Committee Act, as amended, 5 U.S.C. App.

Pursuant to the Federal Advisory Committee Act, as amended, 5 U.S.C. App., notice is hereby given that the VCAT will meet on Tuesday, October 29, 2019, from 8:30 a.m. to 5:00 p.m. Eastern Time, and Wednesday, October 30, 2019, from 8:30 a.m. to 12:00 p.m. Eastern Time. The meeting will be open to the public. The VCAT is composed of not fewer than 9 members appointed by the NIST Director, eminent in such fields as business, research, new product development, engineering, labor, education, management consulting, environment, and international relations. The primary purpose of this meeting is for the VCAT to review and make recommendations regarding general policy for NIST, its organization, its budget, and its programs within the framework of applicable national policies as set forth by the President and the Congress. The agenda will include an update on major programs at NIST. In addition, the meeting will include an update from the Technology Transfer Subcommittee, NIST strategic planning, and discussion of items surrounding standards and other emerging issues. The agenda may change to accommodate Committee business. The final agenda will be posted on the NIST website at http://www.nist.gov/director/vcat/agenda.cfm.

Individuals and representatives of organizations who would like to offer comments and suggestions related to the Committee's business are invited to request a place on the agenda. Approximately one-half hour will be reserved for public comments and speaking times will be assigned on a first-come, first-serve basis. The amount of time per speaker will be determined by the number of requests received but, is likely to be about 3 minutes each. The exact time for public comments will be included in the final agenda that will be posted on the NIST website at http://www.nist.gov/director/vcat/agenda.cfm. Questions from the public will not be considered during this period. Speakers who wish to expand upon their oral statements, those who had wished to speak but could not be accommodated on the agenda, and those who were unable to attend in person are invited to submit written statements to VCAT, NIST, 100 Bureau Drive, MS 1060, Gaithersburg, Maryland, 20899, via fax at 301-216-0529 or electronically by email to stephanie.shaw@nist.gov.

All visitors to the NIST site are required to pre-register to be admitted. Please submit your name, time of arrival, email address, and phone number to Stephanie Shaw by 5:00 p.m. Eastern Time, Tuesday, October 22, 2019. Non-U.S. citizens must submit additional information; please contact Ms. Shaw. Ms. Shaw's email address is stephanie.shaw@nist.gov and her phone number is 301-975-2667. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please contact Ms. Shaw at 301-975-2667 or visit: http://nist.gov/public_affairs/visitor/. For participants attending via webinar, please contact Ms. Shaw at 301-975-2667 or stephanie.shaw@nist.gov for detailed instructions on how to join the webinar by 5:00 p.m. Eastern Time, Monday, October 28, 2019.

Kevin A. Kimball,
Chief of Staff.

[FR Doc. 2019-21470 Filed 10-2-19; 8:45 am]

BILLING CODE 3510-13-P